Title 3—

The President

Memorandum of September 27, 2023

Restoring Healthy and Abundant Salmon, Steelhead, and Other Native Fish Populations in the Columbia River Basin

Memorandum for the Heads of Executive Departments and Agencies

The Columbia River and its tributaries, wetlands, and estuaries are the lifeblood of the Pacific Northwest, providing abundant water, power, recreation, agriculture, transportation, and natural resources that have supported livelihoods, cultural and spiritual practices, commerce, and economic growth. The salmon, steelhead, and other native fish populations in the Columbia River Basin (Basin) are essential to the culture, economy, and way of life of Tribal Nations in the region and Indigenous peoples in Canada, and also provide an important food source for endangered orca, which are sacred to many Tribal Nations in the region. In 1855, the United States and four of the Tribal Nations of the Basin entered into treaties specifying that these Tribal Nations reserved the right to harvest fish on their reservations and at all usual and accustomed places. At that time, an estimated 7.5 to 16 million adult salmon and steelhead returned to the Basin each year.

Actions since 1855, including the Federal Government's construction and operation of dams in the Basin, have severely depleted fish populations. Thirteen salmon and steelhead populations are listed as threatened or endangered, other populations of those fish have been extirpated, and other native fish populations have also declined, causing substantial harm to Tribal Nations and other communities reliant on salmon and steelhead. Despite decades of hard work, ingenuity, expense, and commitment across Federal, Tribal, State, and local governments and a wide range of stakeholders, the populations of salmon, steelhead, and other native fish populations in the Basin continue to decline or have not recovered to the level that would warrant removing any population from the list of threatened and endangered species.

It is time for a sustained national effort to restore healthy and abundant native fish populations in the Basin. For these reasons, and by the authority vested in me as President by the Constitution and the laws of the United States of America, it is hereby ordered as follows:

Section 1. Policy. It is a priority of my Administration to honor Federal trust and treaty responsibilities to Tribal Nations—including to those Tribal Nations harmed by the construction and operation of Federal dams that are part of the Columbia River System (CRS)—and to carry out the requirement of the Pacific Northwest Electric Power Planning and Conservation Act (Public Law 96-501) to operate, manage, and regulate the CRS to adequately protect, mitigate, and enhance fish and wildlife affected by the Federal dams in the Basin in a manner that provides equitable treatment for fish and wildlife with the other purposes for which the Federal dams are managed and operated.

In recognition of these priorities, it is the policy of my Administration to work with the Congress and with Tribal Nations, States, local governments, and stakeholders to pursue effective, creative, and durable solutions, informed by Indigenous Knowledge, to restore healthy and abundant salmon, steelhead, and other native fish populations in the Basin; to secure a clean and resilient energy future for the region; to support local agriculture and its role in food security domestically and globally; and to invest in the communities that depend on the services provided by the Basin's Federal dams to enhance resilience to changes to the operation of the CRS, including those necessary to address changing hydrological conditions due to climate change.

Sec. 2. Federal Implementation. (a) All executive departments and agencies (agencies) with applicable authorities and responsibilities, including the Department of the Interior, including the Bureau of Indian Affairs, the Bureau of Land Management, the Bureau of Reclamation, the United States Fish and Wildlife Service, and the United States Geological Survey; the Department of Agriculture, including the United States Forest Service and the Natural Resources Conservation Service; the Department of Commerce, including the National Oceanic and Atmospheric Administration; the Department of Energy, including the Bonneville Power Administration; the Department of the Army, including the United States Army Corps of Engineers; and the Environmental Protection Agency, are directed to utilize their authorities and available resources to advance the policy established in section 1 of this memorandum.

(b) Within 120 days of the date of this memorandum, all agencies with applicable authorities and responsibilities, including those agencies identified in subsection (a) of this section, shall review their programs affecting salmon, steelhead, and other native fish populations in the Basin, including any program with authority or responsibility with respect to the CRS, for consistency with the policy established in section 1 of this memorandum. As soon as practicable following such review, agencies shall, consistent with applicable law, identify and initiate any steps necessary to advance that policy.

(c) Within 220 days of the date of this memorandum, all agencies with applicable authorities and responsibilities, including those agencies identified in subsection (a) of this section, shall provide the Director of the Office of Management and Budget (Director) an assessment of the agency's programs that can advance the policy established in section 1 of this memorandum and the resources such programs need for this purpose. Based on the assessment, each agency shall prioritize these activities to the extent feasible in their program and budget planning.

Sec. 3. Intergovernmental Partnership. The Chair of the Council on Environmental Quality (Chair) and the Director shall explore opportunities and mechanisms to develop an intergovernmental partnership, including through a memorandum of understanding, to advance the policy established in section 1 of this memorandum within the United States; the States of Oregon, Washington, Montana, and Idaho; the Tribal Nations of the Basin, including the Columbia Basin Treaty Tribes (the Nez Perce Tribe, the Confederated Tribes and Bands of the Yakama Indian Nation, the Confederated Tribes of the Warm Springs Reservation of Oregon, and the Confederated Tribes of the Umatilla Indian Reservation); the Upper Columbia United Tribes (the Confederated Tribes of the Colville Reservation, the Coeur d'Alene Tribe of Indians, the Spokane Tribe of Indians, the Kalispel Tribe of Indians, and the Kootenai Tribe of Idaho); the Upper Snake River Tribes (the Burns Paiute Tribe, the Fort McDermitt Paiute-Shoshone Tribe, the Shoshone-Bannock Tribes of the Fort Hall Reservation, and the Shoshone-Paiute Tribes of the Duck Valley Reservation); and other Tribal Nations, as appropriate. Within 120 days of the date of this memorandum, the Chair and the Director shall submit a report to the President with an update on progress in developing this intergovernmental partnership.

Sec. 4. General Provisions. (a) Nothing in this memorandum shall be construed to impair or otherwise affect the ability of heads of agencies to meet the requirements of sections 2 and 3 of this memorandum before the deadlines in those sections or to produce additional materials not specifically requested in this memorandum.

(b) Nothing in this memorandum shall be construed to impair or otherwise affect:

(i) the authority granted by law to an executive department or agency, or the head thereof; or

(ii) the functions of the Director of the Office of Management and Budget relating to budgetary, administrative, or legislative proposals.

(c) This memorandum shall be implemented consistent with applicable law and subject to the availability of appropriations.

(d) This memorandum is not intended to, and does not, create any right or benefit, substantive or procedural, enforceable at law or in equity by any party against the United States, its departments, agencies, or entities, its officers, employees, or agents, or any other person.

(e) Independent agencies are strongly encouraged to comply with the provisions of this memorandum.

Sec. 5. Publication. The Chair is hereby authorized and directed to publish this memorandum in the Federal Register.

THE WHITE HOUSE,

Washington, September 27, 2023

[FR Doc. 2023-21882

Filed 9-29-23; 8:45 am]

Billing code 3125-W0-P